DEPARTMENT OF AGRICULTURE

Rural Business-Cooperative Service

Notice of Funding Availability (NOFA) for the Small, Socially-Disadvantaged Producer Grant Program in Fiscal Year 2009

AGENCY: Rural Business-Cooperative Service, USDA.

ACTION: Notice of Funding Availability.

SUMMARY: The Rural Business-Cooperative Service announces the availability of approximately $1.463 million in competitive grant funds for fiscal year (FY) 2009 for cooperatives or associations of cooperatives to assist small, socially-disadvantaged agricultural producers. USDA Rural Development Cooperative Programs hereby requests proposals from eligible cooperatives and associations of cooperatives for a competitively awarded grant to fund technical assistance to small, socially-disadvantaged agricultural producers in rural areas. The maximum award per grant is $175,000.

DATES: Applications for grants must be submitted on paper or electronically according to the following deadlines:

Paper copies must be postmarked and mailed, shipped, or sent overnight no later than August 10, 2009, to be eligible for FY 2009 grant funding. Late applications are not eligible for FY 2009 grant funding.

Electronic copies must be received by August 10, 2009, to be eligible for FY 2009 grant funding. Late applications will not be eligible for FY 2009 grant funding.

ADDRESSES: Application materials for the Small, Socially-Disadvantaged Producers Grant Program (SSDPG) may be obtained at http://www.rurdev.usda.gov/rbs/coops/ssdg/ssdpg.htm or by contacting the applicant's USDA Rural Development State Office. Contact information for State Offices can be found at http://www.rurdev.usda.gov/rbs/coops/rcdg/Contacts.htm.

Paper applications must be submitted to the USDA Rural Development State Office where the applicant is located. Electronic applications must be submitted through the Grants.gov Web site at http://www.grants.gov, following the instructions found on this Web site.

FOR FURTHER INFORMATION CONTACT: Visit the program Web site at http://www.rurdev.usda.gov/rbs/coops/ssdpg/ssdpg.htm for application assistance or contact a USDA Rural Development State Office. Applicants are strongly encouraged to contact their State Offices well in advance of the deadline to discuss their projects and ask any questions about the application process.

SUPPLEMENTARY INFORMATION:

Overview

Federal Agency: USDA Rural Business Cooperative Service.

Funding Opportunity Title: Small, Socially-Disadvantaged Producer Grant.

Announcement Type: Initial announcement.

Catalog of Federal Domestic Assistance Number: 10.771.

Dates: Application Deadline: Completed applications for grants may be submitted on paper or electronically according to the following deadlines:

Paper copies must be postmarked and mailed, shipped, or sent overnight no later than August 10, 2009, to be eligible for FY 2009 grant funding. Late applications are not eligible for FY 2009 grant funding.

Complete electronic copies must be received by August 10, 2009, to be eligible for FY 2009 grant funding. Late applications are not eligible for FY 2009 grant funding.

I. Funding Opportunity Description

This notice is issued pursuant to the Omnibus Appropriations Act Public Law No. 111-8 (March 11, 2009) that authorizes, not to exceed, $1.463 million for cooperatives or associations of cooperatives whose primary focus is to provide assistance to small, socially-disadvantaged producers and whose governing board and/or membership is comprised of at least 75 percent small, socially disadvantaged producers. The Secretary of Agriculture has delegated the program's administration to USDA Rural Development Cooperative Programs.

Formerly known as the Small, Minority Producer Grant Program, the primary objective of the SSDPG program is to provide technical assistance to small, socially-disadvantaged agricultural producers through eligible cooperatives and associations of cooperatives. Grants are awarded on a competitive basis. The maximum award amount per grant is $175,000.

Definitions

Agency—Rural Business-Cooperative Service, an agency of the United States Department of Agriculture (USDA) Rural Development or a successor agency.

Agricultural Commodity—An unprocessed product of farms, ranches, nurseries, and forests. Agricultural commodities include: livestock, poultry, and fish; fruits and vegetables; grains, such as wheat, barley, oats, rye, triticale, rice, corn, and sorghum; legumes, such as field beans and peas; animal feed and forage crops; seed crops; fiber crops, such as cotton; oil crops, such as safflower, sunflower, corn, and cottonseed; trees grown for lumber and wood products; nursery stock grown commercially; Christmas trees; ornamentals and cut flowers; and turf grown commercially for sod. Agricultural commodities do not include horses or animals raised as pets, such as cats, dogs, and ferrets.

Association of Cooperatives—An association of cooperatives whose primary focus is to provide assistance to small, socially-disadvantaged agricultural producers and where the governing board and/or membership is comprised of at least 75 percent socially-disadvantaged agricultural producers.

Conflict of Interest—A situation in which the ability of a person or entity to act impartially would be questionable due to competing professional or personal interests. An example of conflict of interest occurs when the grantee's employees, board of directors, including their immediate family, have a legal or personal financial interest in the recipients receiving the benefits or services of the grant.

Cooperative—A farmer- or rancher-owned and -controlled business, organized and chartered as a cooperative, from which benefits are derived and distributed equitably on the basis of use by each of the farmer or rancher owners whose primary focus is to provide assistance to small, socially-disadvantaged agricultural producers and where the governing board and/or membership is comprised of at least 75 percent socially-disadvantaged producers.

Cooperative Programs—The office within USDA Rural Development, and its successor organization, that administers programs authorized by the Cooperative Marketing Act of 1926 (7 U.S.C. 451 et seq.) and such other programs identified in USDA regulations.

Economic Development—The economic growth of an area as evidenced by increase in total income, employment opportunities, decreased out-migration of population, value of production, increased diversification of industry, higher labor force participation rates, increased duration of employment, higher wage levels, or gains in other measurements of economic activity, such as land values.

Feasibility Study—An analysis of the economic, market, technical, financial, and management feasibility of a proposed Project.

Operating Cost—The day-to-day expenses of running a business; for example: Utilities, rent, salaries, depreciation, product production costs, marketing and advertising, and other basic overhead items.

Project—Includes all activities to be funded by the Small Socially-Disadvantaged Agricultural Producer Grant and any matching funds.

Rural and Rural Area—Any area of a State—

(1) Not in a city or town that has a population of more than 50,000 inhabitants, according to the latest decennial census of the United States; and

(2) The contiguous and adjacent urbanized area,

(3) Urbanized areas that are rural in character as defined by U.S.C. 1991(a)(13), as amended by section 6018 of the Food, Conservation, and Energy Act of 2008, Public Law 110-246 (June 18, 2008).

(4) For the purposes of this definition, cities and towns are incorporated population centers with definite boundaries, local self-government, and legal powers set forth in a charter granted by the State. Notwithstanding any other provision of this paragraph, within the areas of the County of Honolulu, Hawaii, and the Commonwealth of Puerto Rico, the Secretary may designate any part of the areas as a rural area if the Secretary determines that the part is not urban in character, other than any area included in the Honolulu census designated place (CDP) or the San Juan CDP.

Rural Development—A mission area within USDA consisting of the Office of Under Secretary for Rural Development, Rural Development Business and Cooperative Programs, Rural Development Housing Programs, and Rural Development Utilities Programs and their successors.

Small, Socially-Disadvantaged Agricultural Producer—Socially-disadvantaged persons or 100 percent socially-disadvantaged producer-owned entities, including farmers, ranchers, loggers, agricultural harvesters, and fishermen, that have averaged $250,000 or less in annual gross sales of agricultural products in the last 3 years.

Socially-Disadvantaged Producer—Individual agricultural producers who have been subjected to racial, ethnic or gender prejudice because of their identity as members of a group, without regard for their individual qualities.

State—Includes each of the several states, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

Technical Assistance—An advisory service performed for the benefit of a small, socially-disadvantaged agricultural producer such as market research; product and/or service improvement; legal advice and assistance; feasibility study, business plan, and marketing plan development; and training. Technical assistance does not include the operating costs of a cooperative being assisted.

II. Award Information

Type of Award: Grant.

Fiscal Year Funds: FY 2009.

Approximate Total Funding: $1.463 million.

Approximate Number of Awards: 8.

Approximate Average Award: $175,000.

Floor of Award Range: None.

Ceiling of Award Range: $175,000.

Anticipated Award Date: September 1, 2009.

Budget Period Length: 12 months.

Project Period Length: 12 months.

III. Eligibility Information

A. Eligible Applicants

Applicants must be a cooperative or an association of cooperatives as defined in this Notice, and must be able to verify their legal structure as a cooperative in the state in which they are incorporated. Individuals are not eligible for this program.

B. Cost Sharing or Matching

No matching funds are required.

C. Other Eligibility Requirements

Use of Funds: Funds may only be used for technical assistance projects as defined in this notice.

Project Area Eligibility: The Project proposed must take place in a rural area as defined in this Notice.

Grant Period Eligibility: If awarded, grant funds must be expended in 1 year. Applications must have a time frame of no more than 365 days with the time period beginning no earlier than October 1, 2009, and ending no later than December 31, 2010. Projects must be completed within the 1-year time frame. The Agency will not approve requests to extend the grant period. Applications that request funds for a time period ending after December 31, 2010, will not be considered for funding.

Completeness Eligibility: Applications lacking sufficient information to determine eligibility and scoring will be considered ineligible. Applications that are non-responsive to this notice will be considered ineligible.

Multiple Grant Eligibility: An applicant may not submit more than one grant application in any one funding cycle.

Activity Eligibility: Applications must propose technical assistance, as defined in this notice, to benefit their members or other small socially-disadvantaged agricultural producers who are not members, in order to be considered for funding. Applications having ineligible costs equaling more than 10 percent of total project costs will be determined ineligible and will not be considered for funding. Applications having ineligible costs of 10 percent or less of total project costs and which are selected for funding, must remove all ineligible costs from the budget and replace them with eligible activities or the amount of the grant award will be reduced accordingly. Applicants may not submit applications that duplicate current activities or activities paid for by other federally funded grant programs.

IV. Application and Submission Information

A. Address To Request Application Package

The application package for applying on paper for this funding opportunity can be obtained at http://www.rurdev.usda.gov/rbs/coops/ssdpg/ssdpg.htm. Alternatively, applicants may contact their USDA Rural Development State Office. Contact information for State Offices can be found at http://www.rurdev.usda.gov/rbs/coops/rcdg/Contacts.htm.

For electronic applications, applicants must visit http://www.grants.gov and follow the instructions.

B. Content and Form of Submission

Applications must be submitted on paper or electronically. An application guide may be viewed at http://www.rurdev.usda.gov/rbs/coops/ssdpg/ssdpg.htm. It is recommended that applicants use the template provided on the Web site. The template can be filled out electronically and printed out for submission with the required forms for paper submission or it can be filled out electronically and submitted as an attachment through http://www.grants.gov.

If the application is submitted electronically, the applicant must follow the instructions given at the Internet address: http://www.grants.gov. Applicants are advised to visit the site well in advance of the application deadline if they plan to apply electronically to ensure that they have obtained the proper authentication and have sufficient computer resources to complete the application.

Applicants must complete and submit the following elements. The Agency will screen all applications for eligibility and to determine whether the application is complete and sufficiently responsive to the requirements set forth in this notice to allow for an informed review. Information submitted as part of the application will be protected to the extent permitted by law.

1. Form SF-424, “Application for Federal Assistance.” The form must be completed, signed and submitted as part of the application package.

Please note that applicants are required to have a Dun and Bradstreet Data Universal Numbering System (DUNS) number. The DUNS number is a nine-digit identification number, which uniquely identifies business entities. There is no charge. To obtain a DUNS number, access http://www.dnb.com/us/ or call 866-705-5711. For more information, see the SSDPG Web site at http://www.rurdev.usda.gov/rbs/coops/ssdpg/ssdpg.htm or by contacting the applicant's USDA Rural Development State Office. In addition to the DUNS number, an applicant must provide their Employment Identification Number.

2. Form SF-424A, “Budget Information—Non-Construction Programs.” This form must be completed and submitted as part of the application package.

3. Form SF-424B, “Assurances—Non-Construction Programs.” This form must be completed, signed, and submitted as part of the application package.

4. Table of Contents. For ease of locating information, each application must contain a detailed Table of Contents (TOC) immediately following the SF-424B. The TOC must include page numbers for each component of the application. Pagination should begin immediately following the TOC.

5. Executive Summary. A summary of the proposal, not to exceed one page, must briefly describe the project, tasks to be completed and other relevant information that provides a general overview of the project.

6. Eligibility Discussion: A detailed discussion, not to exceed four pages, must describe how the applicant meets the following requirements.

(i) Applicant Eligibility: Applicants must be cooperatives or associations of cooperatives comprised of small, socially-disadvantaged agricultural producers and must describe how they meet the definition as defined in the Definitions section of this Notice. Applicant must also verify their incorporation as a cooperative or an association of cooperatives in the state they have applied by providing the state's Certificate of Good Standing, and their Articles of Incorporation and By-Laws. The applicant must apply as only one type of applicant.

(ii) Use of Funds: The applicant must provide a detailed discussion on how the proposed project activities meet the definition of technical assistance.

(iii) Project Area: The applicant must provide specific information on where the projects are planned to be located and that the areas meet the definition of “rural area.”

(iv) Grant Period: The applicant must provide a time frame for the proposed project and discuss how the project will be completed within that time frame.

7. Budget/Work Plan: The applicant must describe, in detail not to exceed four pages, the purpose of the grant, what type of assistance will be provided, and the total amount of funds needed to assist for each project. The budget must also present a breakdown of estimated costs associated with each task/activity for each project. The amount of grant funds requested will be adjusted if the applicant does not have justification for all costs.

8. Evaluation Criteria: Each of the evaluation criteria referenced in this notice must be addressed, specifically and individually on separate pages, in narrative form, not to exceed a total of two pages for each evaluation criteria. Failure to address each evaluation criteria will result in the application being determined ineligible.

C. Submission Dates and Times

Application Deadline Date: August 10, 2009.

Explanation of Deadlines: Paper applications must be Postmarked and mailed, shipped, or sent overnight by the deadline date (see section IV.F. for the address). Electronic applications must be Received by http://www.grants.gov by the deadline date. Courier applications must be delivered by the deadline date. If the Applicant's application does not meet the deadline, it will not be considered for funding. Applicants will be notified if their application did not meet the submission deadline.

D. National Environmental Policy Act

All grants made under this NOFA are subject to the requirements of 7 CFR 1940 subpart G. Applications for technical assistance are generally excluded from the environmental review process by 1940.333, provided the assistance is not related to the development of a specific site.

E. Intergovernmental Review of Applications

Executive Order (EO) 12372, Intergovernmental Review of Federal Programs, applies to this program. This EO requires that Federal agencies provide opportunities for consultation on proposed assistance with State and local governments. Many states have established a Single Point of Contact (SPOC) to facilitate this consultation. A list of states that maintain an SPOC may be obtained at http://www.whitehouse.gov/omb/grants/spoc.html. If your state has an SPOC, you may submit your application directly for review. Any comments obtained through the SPOC must be provided to Rural Development for consideration as part of your application. If your state has not established a SPOC or you do not want to submit your application to the SPOC, Rural Development will submit your application to the SPOC or other appropriate agency or agencies.

You are also encouraged to contact Cooperative Programs at 202-720-8460 or cpgrants@wdc.usda.gov if you have questions about this process.

F. Funding Restrictions

Grant funds must be used for technical assistance. No funds made available under this solicitation shall be used to:

1. Plan, repair, rehabilitate, acquire, or construct a building or facility, including a processing facility;

2. Purchase, rent, or install fixed equipment, including processing equipment;

3. Purchase vehicles, including boats;

4. Pay for the preparation of the grant application;

5. Pay expenses not directly related to the funded project;

6. Fund political or lobbying activities;

7. Fund any activities prohibited by 7 CFR parts 3015 and 3019;

8. Fund architectural or engineering design work for a specific physical facility;

9. Fund any direct expenses for the production of any commodity or product to which value will be added, including seed, rootstock, labor for harvesting the crop, and delivery of the commodity to a processing facility;

10. Fund research and development;

11. Purchase land;

12. Duplicate current services or replace or substitute support previously provided;

13. Pay costs of the project incurred prior to the date of grant approval;

14. Pay for assistance to any private business enterprise, which does not have at least 51 percent ownership by those who are either citizens of the United States or reside in the United States after being legally admitted for permanent residence;

15. Pay any judgment or debt owed to the United States;

16. Pay the operating costs of cooperative and/or association of cooperatives;

17. Pay expenses for applicant employee training; or

18. Pay for any goods or services from a person who has a conflict of interest.

G. Other Submission Requirements

Applicants may submit their paper application for a grant to their Rural Development State Office listed under the ADDRESSES section. Applicants may submit their application electronically at http://www.grants.gov. Applications may not be submitted by electronic mail, facsimile, or hand-delivery. Each application submission must contain all required documents in one envelope, if sent by mail or express delivery service.

V. Application Scoring Criteria Review Information

A. Criteria

All eligible and complete applications will be evaluated based upon the following criteria. Failure to address any one of the following criteria by the application deadline will result in the application being determined ineligible and the application will not be considered for funding. The total points possible for the criteria are 50. Any application receiving less than 30 total points will not be funded.

1. Technical Assistance. (0-15 points) The application will be evaluated to determine the applicant's ability to assess the needs of small socially-disadvantaged producers, plan and conduct appropriate and effective assistance, and identify the expected outcomes of that assistance.

(i) 0 points will be awarded if the applicant does not substantively address this criterion.

(ii) 1-4 points will be awarded if the applicant demonstrates weakness in addressing this criterion.

(iii) 5-10 points will be awarded if the applicant demonstrates they meet part but not all of the criterion.

(iv) 15 points will be awarded if the applicant identifies specific needs of the socially-disadvantaged producers to be assisted; clearly articulates a logical and detailed plan of assistance for addressing those needs; and discusses realistic outcomes of planned assistance.

2. Experience. (0-15 points) Points will be awarded based upon length of experience of identified staff or consultants in providing technical assistance, as defined in this notice. Applicants must describe the specific type of technical assistance experience for each identified staff member or consultant, as well as years of experience in providing that assistance. In addition, résumés for each individual staff member or consultant must be included as an attachment, listing their experience for the type of technical assistance proposed. The attachments will not count toward the maximum page total. The Agency will compare the described experience to the work plan to determine relevance of experience.

(i) 0 points will be awarded if the staff or consultants demonstrate no relevant experience in providing technical assistance;

(ii) 5 points will be awarded if at least one of the identified staff or consultants demonstrates more than two years of experience in providing relevant technical assistance;

(iii) 10 points will be awarded if at least one of the identified staff or consultants demonstrates 5 or more years of experience in providing relevant technical assistance; or

(iv) 15 points will be awarded if all of the identified staff or consultants demonstrate 5 or more years of experience in providing relevant technical assistance.

3. Commitment. (0-15 points) The Agency will evaluate the applicant's commitment to providing technical assistance to socially-disadvantaged producers in rural areas. Points will be awarded based upon the number of agricultural, socially-disadvantaged producers being assisted. Applicants must list the number and location of small, socially-disadvantaged agricultural producers that will directly benefit from the assistance provided.

(i) 0 points will be awarded if the applicant does not substantively address this criterion.

(ii) 5 points will be awarded if the proposed project will benefit 1-10 producers;

(iii) 10 points will be awarded if the proposed project will benefit 11-50 producers; or

(iv) 15 points will be awarded if the proposed project will benefit more than 50 producers.

4. Local support. (0-5 points) Applications will be reviewed for local support for the technical assistance activities of the cooperative. Applicants that demonstrate strong support from potential beneficiaries and other developmental organizations will receive more points than those not evidencing such support.

(i) 0 points will be awarded if the applicant does not substantively address this criterion.

(ii) 1 point will be awarded if the applicant provides or references 2-3 support letters that demonstrate substantive support from potential beneficiaries and/or support from local organizations.

(iii) 2 points will be awarded if the applicant provides or references 4-5 support letters that demonstrate substantive support from potential beneficiaries and/or support from local organizations.

(iv) 3 points will be awarded if the applicant provides or references 6-7 support letters that demonstrate substantive support from potential beneficiaries and/or support from local organizations.

(v) 4 points will be awarded if the applicant provides or references 8-9 support letters that demonstrate substantive support from potential beneficiaries and/or support from local organizations.

(vi) 5 points will be awarded if the applicant provides or references 10 support letters that demonstrate substantive support from potential beneficiaries and/or support from local organizations.

The applicant may submit a maximum of 10 letters of support. These letters should be included as an attachment to the application and will not count against the maximum page total. Additional letters from industry groups, commodity groups, local and State government, and similar organizations should be referenced, but not included in the application package. When referencing these letters, provide the name of the organization, date of the letter, the nature of the support, and the name and title of the person signing the letter.

B. Review and Selection Process

The Agency will screen all proposals to determine whether the application is eligible and sufficiently responsive to the requirements set forth in this notice to allow for an informed review. Applications will be screened for eligibility and scored by the State Offices, then submitted to the National Office for review and ranking. The National Office will review the scores based upon the point allocation specified in this notice. Applications will be funded in scoring rank order and will be submitted to the Administrator in rank order with funding level recommendations. The Administrator will break scoring ties based on Agency priorities.

C. Anticipated Announcement and Award Dates

Award Date: The announcement of award selections is expected to occur on or about September 1, 2009.

VI. Award Administration Information

A. Award Notices

Successful applicants will receive a notification of tentative selection for funding from Rural Development. Applicants must comply with all applicable statutes, regulations, and this notice before the grant award will receive final approval.

Unsuccessful applicants will receive notification, including appeal rights, by mail.

B. Administrative and National Policy Requirements

7 CFR parts 3015, 3019, and subparts A and F of part 7 CFR 4284 are applicable to grants made under this notice. These regulations may be obtained at http://www.gpoaccess.gov/cfr/index.html.

The following additional requirements apply to grantees selected for this program:

• Agency approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding a Drug-Free Workplace Requirements (Grants).”

• Form RD 400-4, “Assurance Agreement.”

Additional information on these requirements can be found at http://www.rurdev.usda.gov/rbs/coops/ssdpg/ssdpg.htm.

Fund Disbursement: The Agency will determine, based on 7 CFR parts 3015, 3016 and 3019, as applicable, whether disbursement of a grant will be by advance or reimbursement. As needed, but not more frequently than once every 30 days, an original of SF-270, “Request for Advance or Reimbursement,” may be submitted to Rural Development. Recipient's request for advance shall not be made in excess of reasonable outlays for the month covered.

Reporting Requirements: Grantees must provide Rural Development with an original or an electronic copy that includes all required signatures of the following reports. The reports should be submitted to the Agency contact listed on the Grant Agreement and Letter of Conditions. Failure to submit satisfactory reports on time may result in suspension or termination of the grant. Grantees will submit:

1. Form SF-269 or SF-269A. A “Financial Status Report,” listing expenditures according to agreed upon budget categories, on a semi-annual basis. Reporting periods end each March 31 and September 30. Reports are due 30 days after the reporting period ends.

2. Semi-annual performance reports comparing accomplishments to the objectives stated in the proposal, identifying all tasks completed to date and providing documentation supporting the reported results. If the original schedule provided in the work plan is not being met, the report should discuss the problems or delays that may affect completion of the Project. Objectives for the next reporting period should be listed. Compliance with any special condition on the use of award funds must be discussed. Reports are due as provided in paragraph (1) of this section. Supporting documentation must also be submitted for completed tasks. The supporting documentation for completed tasks includes, but is not limited to, feasibility studies, marketing plans, business plans, articles of incorporation, and bylaws as they relate to the assistance provided.

3. Final project performance reports comparing accomplishments to the objectives stated in the proposal, identifying all tasks completed, and providing documentation supporting the reported results. If the original schedule provided in the work plan was not met, the report must discuss the problems or delays that affected completion of the project. Compliance with any special condition on the use of award funds must be discussed. Supporting documentation for completed tasks must also be submitted. The supporting documentation for completed tasks includes, but is not limited to, feasibility studies, marketing plans, business plans, articles of incorporation, and bylaws as they relate to the assistance provided. The final performance report is due within 90 days of the completion of the project. The report must also include a summary at the end of the report with the number of small socially disadvantaged agricultural producers assisted to assist in documenting the annual performance goals of the SSDPG program for Congress.

VII. Agency Contacts

For general questions about this announcement and for program technical assistance, please contact the appropriate State Office as indicated in the Addresses section of this notice.

VIII. Non-Discrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice) or (202) 720-6382 (TDD). USDA is an equal opportunity provider and employer.

Dated June 19, 2009.
Judith A. Canales,
Administrator, Rural Business-Cooperative Service.

[FR Doc. E9-14954 Filed 6-24-09; 8:45 am]

BILLING CODE 3410-XY-P